FEDERAL COMMUNICATIONS COMMISSION

47 CFR Part 73

[DA 02-1861; MM Docket No. 99-246; RM-9593, RM-9770]

Radio Broadcasting Services; Camp Verde, Mayer, and Sun City West and Winslow, AZ

AGENCY: Federal Communications Commission.

ACTION: Final rule, application for review.

SUMMARY: At the request of Desert West Air Ranchers Corporation, this document reallots Channel 236C from Winslow to Sun City West, Arizona, and modifies the Station KFMR license to specify Sun City West as the community of license. This document also sets aside an earlier action reallotting Channel 236C to Mayer, Arizona. See 66 FR 29237, published May 30, 2001. In addition, this document dismisses an Application for Review filed by Desert West Air Ranchers Corporation directed against that earlier action. The reference coordinates for the Channel 236C allotment at Sun City West, Arizona, are 34-14-33 and 112-21-53. With this action, the proceeding is terminated.

DATES: Effective September 17, 2002.

FOR FURTHER INFORMATION CONTACT: Robert Hayne, Mass Media Bureau, (202) 418-2177.

SUPPLEMENTARY INFORMATION: This is a synopsis of the Commission's Memorandum Opinion and Order in MM Docket No. 99-246, adopted July 31, 2002, and released August 2, 2002. The full text of this decision is available for inspection and copying during normal business hours in the FCC's Reference Information Center at Portals II, CY-A257, 445 12th Street, SW, Washington, DC. The complete text of this decision may also be purchased from the Commission's copy contractor, Qualex International, Portals ll, 445 12th Street, SW, Room CY-B402, Washington, DC 20554, telephone 202-863-2893, facsimile 202-863-2898, or via e-mail qualexint@aol.com.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334, 336.

§ 73.202 [Amended]

2. Section 73.202(b), the Table of FM Allotments under Arizona, is amended by removing Mayer, Channel 236C and adding Sun City West, Channel 236C.

Federal Communications Commission.
John A. Karousos,
Assistant Chief, Audio Division, Media Bureau.

[FR Doc. 02-20588 Filed 8-13-02; 8:45 am]

BILLING CODE 6712-01-P